DEPARTMENT OF JUSTICE

Antitrust Division

Notice Pursuant to the National Cooperative Research and Production Act of 1993-Robotic Operating System-Military Standards Development Organization

Notice is hereby given that, on September 14, 2021, pursuant to Section 6(a) of the National Cooperative Research and Production Act of 1993, 15 U.S.C. 4301 et seq. (“the Act”), Robotic Operating System-Military Standards Development Organization (“ROS-M SDO”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Robotic Operating System-Military Standards Development Organization, Ann Arbor, MI. The nature and scope of ROS-M SDO's standards development activities are: The ROS-M SDO is comprised of members of National Advanced Mobility Consortium (“NAMC”) that are engaged in developing a software ecosystem for military robotic and autonomous systems (RAS) that provides a trusted community of Government and industry developers with the artifacts and other means to develop, grow, and maintain a federated body of re-useable software components for defense robotics systems. The ROS-M ecosystem includes a library and registry of military-relevant software components compatible with the open ROS framework, development tools, documentation, and support services.

Suzanne Morris,
Chief, Premerger and Division Statistics, Antitrust Division.

[FR Doc. 2021-23095 Filed 10-21-21; 8:45 am]

BILLING CODE 4410-11-P